DEPARTMENT OF DEFENSE

Department of the Navy

Notice of Intent To Prepare an Environmental Impact Statement/Overseas Environmental Impact Statement for Military Readiness Activities in the Northwest Training and Testing Study Area and To Announce Public Scoping Meetings

AGENCY: Department of the Navy, DoD.

ACTION: Notice.

SUMMARY: Pursuant to section 102(2)(c) of the National Environmental Policy Act (NEPA) of 1969, as implemented by the Council on Environmental Quality Regulations (40 Code of Federal Regulations Parts 1500-1508), and Executive Order 12114, the Department of the Navy (DoN) announces its intent to prepare an Environmental Impact Statement (EIS)/Overseas Environmental Impact Statement (OEIS) to assess the potential environmental impacts associated with training and testing military readiness activities conducted in the Northwest Training and Testing (NWTT) Study Area (Study Area). The Study Area is composed of established maritime operating and warning areas in the eastern north Pacific Ocean region, located adjacent to the Northwest coast of the United States, to include the Strait of Juan de Fuca, Puget Sound, and the Behm canal in southeastern Alaska. The Study Area includes four existing range complexes and facilities: The Northwest Training Range Complex (NWTRC), the Naval Undersea Warfare Center (NUWC) Keyport Range Complex, Carr Inlet Operations Area, and the Southeast Alaska Acoustic Measurement Facility (SEAFAC). In addition to these range complexes, the Study Area also includes pierside locations on Navy bases where sonar maintenance and testing occurs within the Study Area, and inland waters that are not part of the range complexes, where training and testing may occur.

The DoN is preparing this EIS/OEIS to renew current federal regulatory permits and authorizations, address proposed, future training and testing activities not covered under existing permits and authorizations (such as those activities proposed to be conducted in the Carr Inlet Operations Area), and include new platforms and weapons systems training and testing requirements.

The DoN will invite the National Marine Fisheries Service and the U.S. Fish and Wildlife Service to be cooperating agencies in preparation of this EIS and OEIS pursuant to 40 CFR 1501.6.

DATES AND ADDRESSES: Nine public scoping meetings will be held between 5 p.m. and 8 p.m. on:

• Tuesday, March 13, 2012.

Oak Harbor School District Office, Administrative Services Center Board Room, 350 S. Oak Harbor Street, Oak Harbor, Washington 98277.

• Wednesday, March 14, 2012.

Quilcene School District Multipurpose Room, 294715 U.S. Highway 101, Quilcene, Washington, 98376.

• Thursday, March 15, 2012.

Central Kitsap High School Cafeteria, 3700 NW Anderson Hill Road, Silverdale, Washington 98383.

• Friday, March 16, 2012.

Grays Harbor College HUB, 1620 Edward P. Smith Drive, Aberdeen, Washington 98520.

• Monday, March 19, 2012.

Tillamook County Fairgrounds Auditorium, 4603 East 3rd Street, Tillamook, Oregon 97141.

• Tuesday, March 20, 2012.

Hatfield Marine Science Center, 2030 SE Marine Science Drive, Newport, Oregon 97365.

• Thursday, March 22, 2012.

Eureka Wharfinger Building, 1 Marina Way, Eureka, California 95501.

• Friday, March 23, 2012.

Fort Bragg Town Hall, 363 North Main Street, Fort Bragg, California 95437.

• Tuesday, March 27, 2012.

Ted Ferry Civic Center, 888 Venetia Way, Ketchikan, Alaska 99901.

Each of the nine scoping meetings will consist of an informal, open house session with information stations staffed by DoN representatives. Comments will be accepted from the public at all scoping meetings. Meeting details will be announced in local newspapers. Additional information concerning meeting times will be available on the EIS/OEIS web page located at: http://www.NWTTEIS.com.

FOR FURTHER INFORMATION CONTACT: Ms. Kimberly Kler, Naval Facilities Engineering Command, Northwest. Attention: NWTT EIS/OEIS, 1101 Tautog Circle, Suite 203, Silverdale, Washington 98315-1101.

SUPPLEMENTARY INFORMATION: The DoN's Proposed Action is to conduct training and testing activities, primarily within existing range complexes, operating areas, testing ranges, and select Navy pierside locations located in the Northwest.

The Study Area combines the at-sea portions (air and sea space) of the following range complexes that were previously analyzed under NEPA: The NWTRC and the NUWC Keyport Range Complex. The Study Area also includes Navy piers within Puget Sound where sonar maintenance and testing occurs, Carr Inlet Operations Area, and SEAFAC.

The air and sea space component of the NWTRC includes the area off the coast of Washington, Oregon, and northern California—out to approximately 250 nautical miles, specific training areas within the Strait of Juan de Fuca and Puget Sound, and the Olympic Military Operations Areas.

The NUWC Range Complex is composed of three geographically distinct range sites; two within Puget Sound and one in the Pacific Ocean. The Keyport Range Site is located in Kitsap County and includes portions of Liberty Bay and Port Orchard Reach (also known as Port Orchard Narrows). The Dabob Bay Range Complex Site is located in Hood Canal and Dabob Bay, in Jefferson, Mason, and Kitsap counties. The Quinault Underwater Tracking Range Site is located in the Pacific Ocean off the coast of Jefferson and Grays Harbor Counties in Washington.

The Carr Inlet Operations Area is located in southern Puget Sound, in an arm of water between Key Peninsula and Gig Harbor Peninsula.

The Southeast Alaska Acoustic Measurement Facility (SEAFAC) is located in the Western Behm Canal in Ketchikan Gateway Borough, Alaska.

The proposed action is to conduct military training and testing activities in the Study Area. The purpose of the Proposed Action is to achieve and maintain military readiness to meet the requirements of Title 10 of the U.S. Code, thereby ensuring the DoN meets its mission to maintain, train and equip combat-ready military forces capable of winning wars, deterring aggression, and maintaining freedom of the seas.

The alternatives analyzed in the NWTT EIS/OEIS are as follows.

(1) No Action Alternative: Baseline training and testing activities, as defined by existing DoN environmental planning documents, including the NWTRC EIS/OEIS and the NUWC Keyport Range Complex Extension EIS/OEIS.

(2) Alternative 1: The alternative consists of the No Action alternative, plus the all-inclusive Study Area, and adjustments to types and levels of activities, from the baseline as necessary to support current and planned DoN training and testing requirements. This Alternative considers:

○ activities conducted throughout the Study Area, including testing activities at the Carr Inlet Operations Area and SEAFAC.

○ mission requirements associated with force structure changes, including those resulting from the development, testing, and ultimate introduction of new platforms (ships and aircraft), and weapons systems into the fleet.

(3) Alternative 2: Consists of Alternative 1 plus, an increase in the tempo of training and testing activities.

Resource areas that will be addressed because of the potential effects from the Proposed Action include, but are not limited to, ocean and biological resources (including marine mammals and threatened and endangered species), terrestrial resources (including threatened and endangered species), sediments and water quality, air quality, airborne soundscape, cultural resources, transportation, regional economy, recreation, and public health and safety.

The scoping process will be used to identify community concerns and local issues that will be addressed in the EIS/OEIS. Federal agencies, Native American Indian Tribes and Nations, state agencies, local agencies, the public, and interested persons are encouraged to provide comments to the DoN to identify specific issues or topics of environmental concern that the commenter believes the DoN should consider.

All comments, provided orally or in writing at the scoping meetings, will receive the same consideration during EIS/OEIS preparation. Written comments must be postmarked no later than April 16, 2012, and should be mailed to: Ms. Kimberly Kler, Naval Facilities Engineering Command, Northwest, 1101 Tautog Circle, Suite 203, Silverdale, Washington 98315-1101, Attention: NWTT EIS/OEIS Project Manager.

Dated: February 22, 2012.
J.M. Beal,
Office of the Judge Advocate General, U.S. Navy, Federal Register Liaison Officer.

[FR Doc. 2012-4458 Filed 2-24-12; 8:45 am]

BILLING CODE 3810-FF-P